DEPARTMENT OF AGRICULTURE

Agricultural Marketing Service

[Document No. AMS-CP-21-0063]

Local Food Purchase Assistance Cooperative Agreement Program

AGENCY: Agricultural Marketing Service, USDA.

ACTION: Notice of request for emergency approval of a new information collection.

SUMMARY: In accordance with the Paperwork Reduction Act of 1995 (PRA), this notice announces the U.S. Department of Agriculture (USDA), Agricultural Marketing Service's (AMS) intention to seek approval from the Office of Management and Budget (OMB) for a new information collection to administer the Local Food Purchase Assistance Cooperative Agreement Program (LFPA). AMS is implementing this new cooperative agreement program under the American Rescue Plan Act, which directs the Secretary of Agriculture to enter into cooperative agreements with State, local, and tribal governments to purchase food from local and regional farmers/producers (within the state or within 400 miles) and from socially disadvantaged farmers/producers.

DATES: Submit comments on or November 30, 2021.

ADDRESSES: Interested persons are invited to submit comments concerning this notice by using the electronic process available at www.regulations.gov. Written comments may also be submitted to the Commodity Procurement Program; AMS; USDA; 1400 Independence Avenue SW, Room 2517-South Building, Stop 0239; Washington, DC 20250-0239. All comments should reference the docket number AMS-CP-21-0063, the date of publication, and the page number of this issue of the Federal Register. All comments received will be posted without change, including any personal information provided, at www.regulations.gov and will be included in the record and made available to the public.

FOR FURTHER INFORMATION CONTACT: Elizabeth Lober, Assistant to the Deputy Administrator, Commodity Procurement Program; (202) 313-1411 or email Elizabeth.Lober@usda.gov.

SUPPLEMENTARY INFORMATION:

Overview of This Information Collection

Agency: USDA, AMS.

Title: Local Food Purchase Assistance Cooperative Agreement Program (LFPA).

OMB Number: 0581-NEW.

Type of Request: Emergency Approval of a New Information Collection.

Abstract: The Agricultural Marketing Act of 1946 (7 U.S.C. 1621 et seq.), as amended, directs and authorizes USDA to administer Federal cooperative agreements programs. AMS cooperative agreement programs are administered according to OMB Guidance for Cooperative Agreements, which is based on OMB's regulations under the Uniform Administrative Requirements, Cost Principles, and Audit Requirements for Federal Awards (2 CFR part 200) (85 FR 49506; December 13, 2020). Information collection requirements in this emergency request are needed for AMS to administer a new noncompetitive cooperative agreement program, in accordance with Section 1001(b)(4) of the American Rescue Plan Act (Pub. L. 117-2) (Act). USDA will collect information for this new program to award cooperative agreements and provide other assistance to maintain and improve food and agriculture supply chain resiliency.

Since the LFPA is a voluntary program, respondents request or apply for this specific competitive cooperative agreement, and in doing so, they provide information. The information collected is used only by authorized representatives of USDA, AMS, Commodity Procurement Program to certify that cooperative agreement participants are complying with applicable program regulations, and the data collected is the minimum information necessary to effectively carry out program requirements.

Information collection requirements in this request are essential to carry out the intent of Act, to provide respondents the type of service they request and to administer the program.

Estimate of Burden: Public reporting burden for this collection of information is estimated to average 4 hours.

Respondents: Cooperative Agreement applicants; or Cooperative Agreement recipients.

Estimated Number of Respondents: 75.

Estimated Total Annual Responses Including Recordkeeping: 975.

Estimated Number of Responses per Respondent: 5.

Estimated Total Annual Burden on Respondents and Recordkeepers: 4,731.25 hours.

Comments are invited on: (1) Whether the proposed collection of information is necessary for the proper performance of agency functions, including whether the information will have practical utility; (2) the accuracy of the agency's estimate of the burden of the new collection of information, including the validity of the methodology and assumptions used; (3) ways to enhance the quality, utility and clarity of the information to be collected; and (4) ways to minimize the burden of the collection of information on those who are to respond, including the use of appropriate automated, electronic, mechanical, or other technological collection techniques or other forms of information technology.

Obtaining OMB's approval of this new information collection enables AMS to publish a Request for Applications (RFA) to establish application requirements, the review and approval process, and cooperative agreement administration procedures. This will enable eligible entities to develop appropriate cooperative agreement applications for the program so that AMS can adequately evaluate these new proposals and obligate the funds as required by the American Act.

Erin Morris,
Associate Administrator, Agricultural Marketing Service.

[FR Doc. 2021-21356 Filed 9-30-21; 8:45 am]

BILLING CODE P